DEPARTMENT OF COMMERCE

National Oceanic and Atmospheric Administration

Programmatic Environmental Assessment

AGENCY: National Ocean Service (NOS), NOAA, Department of Commerce.

ACTION: Notice of intent to prepare a programmatic environmental assessment; request for Comments.

SUMMARY: NOAA is issuing this notice to advise the public that NOS is preparing a programmatic environmental assessment (PEA) in accordance with the National Environmental Policy Act (NEPA) to evaluate the environmental impacts of NOS hydroacoustic surveys, mapping, and other related data gathering activities. NOS offices that conduct hydroacoustic surveys, mapping, and other related data-gathering activities which may be covered under this PEA include: Center for Operational Oceanographic Products and Services, National Centers for Coastal Ocean Science, Office of Coast Survey, Office for Coastal Management, Office of National Marine Sanctuaries, Office of Response and Restoration, Office of National Geodetic Survey, and the U.S. Integrated Ocean Observing System Program Office. The PEA will encompass the environment of all geographic areas where NOS conducts these activities, to include terrestrial areas, but primarily focusing on U.S. waters from the coastline to the limits of the U.S. Exclusive Economic Zone, which extends no more than 200 nautical miles from the territorial sea baseline.

NOAA provides this notice to advise other Federal and State agencies, Territories, Tribal Governments, local governments, private parties, and the public of our intent to prepare a PEA, to provide information on the nature of the analysis, and to invite input.

DATES: Comments must be received by January 18, 2017.

ADDRESSES: Comments may be submitted by mail, email, or FAX. Mail: DOC/NOAA/NOS, Environmental Compliance Coordinator, SSMC4-Station 13612, 1305 East West Highway, Silver Spring, MD 20910. Email: nosaa.ec@noaa.gov. FAX: 301-713-4269. Comments may also be submitted through the NOS Environmental Compliance Web site: http://oceanservice.noaa.gov/about/environmental-compliance.html.

FOR FURTHER INFORMATION CONTACT: Giannina DiMaio, Environmental Compliance Coordinator for NOS, at nosaa.ec@noaa.gov or 240-533-0918.

SUPPLEMENTARY INFORMATION: NEPA requires that NOAA consider all reasonably foreseeable environmental effects of our proposed actions, and to involve and inform the public in our decision making process. The main goal of this scoping process is to help NOS focus the analysis of the PEA on the relevant environmental and socioeconomic issues.

NOS uses hydroacoustic surveys to map the ocean floor to provide reliable nautical charts, benthic habitat condition and distribution maps, fishery distribution maps, current and tide charts, and other products necessary for safe navigation, economic security, environmental sustainability, and sound marine resource decision-making in U.S. ocean and coastal waters. These charts and maps are needed to provide reliable navigation, ecosystem distribution and condition information to the public, private users, and decision makers. Up-to-date navigation charts are used to ensure safety, efficiency of transit, and economic well-being.

NOS will take other environmental compliance steps concurrently with the preparation of this PEA to include: application for a 5-year Letter of Authorization pursuant to Section 101 of the Marine Mammal Protection Act; completion of a section 7 consultation under the Endangered Species Act; consultation on the Essential Fish Habitat provisions of the Magnuson-Stevens Fishery Conservation and Management Act; consultations in compliance with Section 106 of the National Historic Preservation Act; and completion of federal consistency determinations for compliance with the Coastal Zone Management Act. Analysis conducted in support of consultations, including quantitative analysis for estimating acoustic impacts on marine species, will be included in the PEA as appropriate.

NOS has not yet identified action alternatives to be analyzed in the PEA. NOS recommends that programmatic NEPA documents examine at least three alternatives, including the no-action alternative.

NOS will use input provided by Federal and State agencies, Territories, Tribal Governments, local governments, private parties, and the public during this scoping process in the preparation of the PEA. Publication of this notice initiates the public scoping process to solicit public and agency comment regarding the full spectrum of environmental issues and concerns relating to the scope and content of the PEA including:

• Analyses of the human and marine resources that could be affected;

• the nature and extent of the potential impacts on those resources;

• a reasonable range of alternatives to the proposed action; and

• mitigation and monitoring measures.

Comments and questions concerning this PEA should be directed to the NOS contact at the address provided above.

Authority: 42 U.S.C. 4321-4347; 40 CFR 1500 et seq.; NOAA Administrative Order 216-6A.

Dated: December 9, 2016.
W. Russell Callender,
Assistant Administrator for Ocean Services and Coastal Management.

[FR Doc. 2016-30439 Filed 12-16-16; 8:45 am]

BILLING CODE 3510-JE-P